DEPARTMENT OF COMMERCE

National Oceanic and Atmospheric Administration

Evaluation of State Coastal Management Programs and National Estuarine Research Reserves

AGENCY: National Oceanic and Atmospheric Administration (NOAA), Office of Ocean and Coastal Resource Management, National Ocean Service, Commerce.

ACTION: Notice of intent to evaluate.

SUMMARY: The NOAA Office of Ocean and Coastal Resource Management (OCRM) announces its intent to evaluate the performance of the San Francisco (California) Bay Conservation and Development Commission Coastal Management Program; the Louisiana Coastal Management Program; the North Inlet/Winyah Bay National Estuarine Research Reserve, South Carolina; and the Elkhorn Slough National Estuarine Research Reserve, California.

The Coastal Zone Management Program evaluations will be conducted pursuant to section 312 of the Coastal Zone Management Act of 1972, as amended, (CZMA) and regulations at 15 CFR Part 923, Subpart L. The National Estuarine Research Reserve evaluations will be conducted pursuant to sections 312 and 315 of the CZMA and regulations at 15 CFR Part 921, Subpart E and Part 923, Subpart L.

The CZMA requires continuing review of the performance of states with respect to coastal program implementation. Evaluation of Coastal Zone Management Programs and National Estuarine Research Reserves requires findings concerning the extent to which a state has met the national objectives, adhered to its Coastal Management Program document or Reserve final management plan approved by the Secretary of Commerce, and adhered to the terms of financial assistance awards funded under the CZMA.

The evaluations will include a site visit, consideration of public comments, and consultations with interested Federal, state and local agencies and members of the public. Public meetings will be held as part of the site visits.

Notice is hereby given of the dates of the site visits for the listed evaluations and the dates, local times, and locations of the public meetings during the site visits.

The San Francisco (California) Bay Conservation and Development Commission Coastal Management Program evaluation site visit will be held February 7-11, 2005. One public meeting will be held during the week. The public meeting will be on Wednesday, February 9, 2005, at 7 p.m., at the Bay Conservation and Development Commission offices, McAteer-Petris Conference Room, 26th Floor, 50 California Street, San Francisco, California.

The Louisiana Coastal Management Program evaluation site visit will be held March 21-25, 2005. One public meeting will be held during the week. The public meeting will be held on Wednesday, March 23, 2005, at 7 p.m., at the Louisiana Department of Natural Resources, Griffon Room, LaSalle Building, 617 North Third Street, Baton Rouge, Louisiana.

The North Inlet/Winyah Bay National Estuarine Research Reserve, South Carolina, evaluation site visit will be held January 31-February 4, 2005. One public meeting will be held during the week. The public meeting will be held on Tuesday, February 1, 2005, at 5:30 p.m. at the Kimbel Lodge at Hobcaw Barony, Highway 17 North, Georgetown, South Carolina.

The Elkhorn Slough National Estuarine Research Reserve, California, evaluation site visit will be held March 21-25, 2005. One public meeting will be held during the week. The public meeting will be held on Wednesday, March 23, 2005, at 7:00 p.m. at the Elkhorn Slough Reserve Visitors' Center, 1700 Elkhorn Road, Watsonville, California.

Copies of states' most recent performance reports, as well as OCRM's notifications and supplemental request letters to the state, are available upon request from OCRM. Written comments from interested parties regarding these Programs are encouraged and will be accepted until 15 days after the last public meeting held for that Program. Please direct written comments to Ralph Cantral, Chief, National Policy and Evaluation Division, Office of Ocean and Coastal Resource Management, NOS/NOAA, 1305 East-West Highway, 10th Floor, Silver Spring, Maryland 20910. When the evaluations are completed, OCRM will place a notice in the Federal Register announcing the availability of the Final Evaluation Findings.

FOR FURTHER INFORMATION CONTACT: Ralph Cantral, Chief, National Policy and Evaluation Division, Office of Ocean and Coastal Resource Management, NOS/NOAA, 1305 East-West Highway, 10th Floor, Silver Spring, Maryland 20910, (301) 713-3155, extension 118.

(Federal Domestic Assistance Catalog No. 11.419)
Coastal Zone Management Program Administration.
Dated: November 9, 2004.
Eldon Hout,
Director, Office of Ocean and Coastal Resource Management.

[FR Doc. 04-25608 Filed 11-17-04; 8:45 am]

BILLING CODE 3510-08-P